DEPARTMENT OF TRANSPORTATION

Research and Innovative Technology Administration

Distracted Driving Summit; Notice

AGENCY: Research and Innovative Technology Administration, DOT.

ACTION: Notice.

SUMMARY: The U.S. Department of Transportation is providing notice that it intends to hold a Distracted Driving Summit (The Summit) to exchange information and ideas on the best possible methods to reduce the number of crashes and deaths due to distracted driving.

Meeting Dates: September 30 and October 1, 2009.

ADDRESSES: The Summit will be held at Renaissance Hotel in Washington, DC. The Department welcomes comments or questions prior to and during the Summit. If you would like to submit a comment or question prior to the Summit, you may submit comments/questions identified by DOT Docket ID Number RITA 2009-0003 by any of the following methods:

○ Federal eRulemaking Portal: Go to http://www.regulations.gov. Follow the online instructions for submitting comments.

○ Mail: Docket Management Facility: U.S. Department of Transportation, 1200 New Jersey Avenue, SE., West Building Ground Floor, Room W12-140, Washington, DC 20590-0001.

○ Hand Delivery or Courier: West Building Ground Floor, Room W12-140, 1200 New Jersey Avenue, SE. between 9 a.m. and 5 p.m. ET, Monday through Friday, except Federal holidays.

○ Fax: 202-493-2251

Instructions: Identify docket number, RITA 2009-0003, at the beginning of your comments. To receive confirmation that DOT received your comments, include a self-addressed stamped postcard. Internet users may access all comments received by DOT at http://www.regulations.gov. All comments/questions will be posted electronically without charge or edits, including any personal information provided.

Privacy Act: Anyone is able to search the electronic form of all comments/questions filed in our dockets by the name of the individual submitting the comment or question (or signing the comment, if submitted on behalf of an association, corporation, business entity, labor union, etc.). You may review DOT's complete Privacy Act Statement in the Federal Register published on April 11, 2000 (65 FR 19477-78) or you may visit http://DocketInfo.dot.gov.

Docket: For access to the docket to read background documents or comments received, go to http://www.regulations.gov. or the street address listed above. Follow the online instructions for accessing the dockets.

FOR FURTHER INFORMATION CONTACT: Kelly Leone, Office of Research, Development and Technology, RDT-10, Research and Innovative Technology Administration, Telephone Number (202) 366-5459, Fax Number (202) 366-3671 or e-mail—Kelly.Leone@dot.gov.

SUPPLEMENTARY INFORMATION:

Background

The Summit will bring together senior transportation officials, elected officials, safety advocates, law enforcement representatives, private sector representatives and academics to address a range of issues related to reducing accidents through enforcement, public awareness and education. Authoritative speakers from around the nation will lead interactive panel discussions on a number of key topics including the extent and impact of distracted driving, current research, regulations and best practices.

Participants will also examine distractions caused by current and planned automotive devices, such as navigational systems. The summit's second day will include a panel of state and local officials to discuss possible solutions from the state and local perspectives.

The U.S. Department of Transportation is committed to providing equal access to this Summit. Based on limited seating and to accommodate the strong interest outside the Washington area, the Summit will be available live by webcast and members of the public will be given the opportunity to submit questions or comments online for each individual panel discussion. The Department has also created a Web site to provide information and updates on the Summit as details become available: http://www.rita.dot.gov/distracted_driving_summit/. If you need alternative formats or services because of a disability, please contact Kelly Leone with your specific request by September 23, 2009.

Issued in Washington, DC, on August 31, 2009.
Peter H. Appel,
Administrator.

[FR Doc. E9-21406 Filed 9-3-09; 8:45 am]

BILLING CODE 4910-HY-P